SMALL BUSINESS ADMINISTRATION

[Disaster Declaration #14417 and #14418]

West Virginia Disaster Number WV-00041

AGENCY: U.S. Small Business Administration.

ACTION: Amendment 1.

SUMMARY: This is an amendment of the Presidential declaration of a major disaster for Public Assistance Only for the State of West Virginia (FEMA-4236-DR), dated 08/07/2015.

Incident: Severe Storms, Straight-line Winds, Flooding, Landslides, and Mudslides.

Incident Period: 07/10/2015 through 07/14/2015.

Effective Date: 09/17/2015.

Physical Loan Application Deadline Date: 10/06/2015.

Economic Injury (EIDL) Loan Application Deadline Date: 05/07/2016.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of WEST VIRGINIA, dated 08/07/2015, is hereby amended to include the following areas as adversely affected by the disaster.

Primary Counties: Jackson.

All other information in the original declaration remains unchanged.

(Catalog of Federal Domestic Assistance Numbers 59002 and 59008)

James E. Rivera,
Associate Administrator for Disaster Assistance.

[FR Doc. 2015-24498 Filed 9-24-15; 8:45 am]

BILLING CODE 8025-01-P